DEPARTMENT OF LABOR

Occupational Safety and Health Administration

29 CFR Parts 1910 and 1915

[Docket No. OSHA-2025-0009]

RIN 1218-AD50

Safety Color Code for Marking Physical Hazards; Textiles; Sawmills; Safety Color Code for Marking Physical Hazards for Shipyard Employment

AGENCY: Occupational Safety and Health Administration (OSHA), Labor.

ACTION: Proposed rule; request for comments.

SUMMARY: This proposed rule removes from the Code of Federal Regulations: OSHA's Safety Color Code for Marking Physical Hazards Standard, 29 CFR 1910.144; paragraph (c)(8) of OSHA's Textiles Standard, 29 CFR 1910.262; paragraph (c)(11) of OSHA's Sawmills Standard, 29 CFR 1910.265; and OSHA's Safety Color Code for Marking Physical Hazards for Shipyard Employment Standard, 29 CFR 1915.90.

DATES: Comments and other information, including requests for a hearing, must be received on or before September 2, 2025.

Informal public hearing: OSHA will schedule an informal public hearing on the rule if requested during the comment period. If a hearing is requested, the location and date of the hearing, procedures for interested parties to notify the agency of their intention to participate, and procedures for participants to submit their testimony and documentary evidence will be announced in the Federal Register.

ADDRESSES:

Written comments: You may submit comments and attachments, identified by Docket No. OSHA-2025-0009, electronically at https://www.regulations.gov, which is the Federal e-Rulemaking Portal. Follow the instructions online for making electronic submissions.

Instructions: All submissions must include the agency's name and the docket number for this rulemaking (Docket No. OSHA-2025-0009). When uploading multiple attachments to https://www.regulations.gov, please number all of your attachments because https://www.regulations.gov will not automatically number the attachments. This will be very useful in identifying all attachments. For example, Attachment 1—title of your document, Attachment 2—title of your document, Attachment 3—title of your document. For assistance with commenting and uploading documents, please see the Frequently Asked Questions on https://www.regulations.gov.

All comments, including any personal information you provide, are placed in the public docket without change and may be made available online at https://www.regulations.gov. Therefore, OSHA cautions commenters about submitting information they do not want made available to the public or submitting materials that contain personal information (either about themselves or others), such as Social Security Numbers and birthdates.

Docket: The docket for this rulemaking (Docket No. OSHA-2025-0009) is available at https://www.regulations.gov, the Federal eRulemaking Portal. Most exhibits are available at https://www.regulations.gov; some exhibits (e.g., copyrighted material) are not available to download from that web page. However, all materials in the dockets are available for inspection at the OSHA Docket Office.

FOR FURTHER INFORMATION CONTACT:

For press inquiries: Contact Frank Meilinger, Director, OSHA Office of Communications, Occupational Safety and Health Administration; telephone: (202) 693-1999; email: meilinger.francis2@dol.gov.

General information and technical inquiries: Contact Andrew Levinson, Director, OSHA Directorate of Standards and Guidance, Occupational Safety and Health Administration; telephone: (202) 693-1950; email: osha.dsg@dol.gov.

Copies of this Federal Register notice: Electronic copies are available at https://www.regulations.gov. This Federal Register notice, as well as news releases and other relevant information, also are available at OSHA's web page at https://www.osha.gov. A “100-word summary” is also available on https://www.regulations.gov.

SUPPLEMENTARY INFORMATION:

Table of Contents

I. Executive Summary

II. Legal Authority and Preliminary Findings

III. Background

IV. Explanation of the Proposed Removal from the Code of Federal Regulations: OSHA's Safety Color Code for Marking Physical Hazards Standard, 29 CFR 1910.144; paragraph (c)(8) of OSHA's Textiles Standard, 29 CFR 1910.262; paragraph (c)(11) of OSHA's Sawmills Standard, 29 CFR 1910.265; and OSHA's Safety Color Code for Marking Physical Hazards for Shipyard Employment Standard, 29 CFR 1915.90.

V. Preliminary Economic Analysis

VI. Additional Requirements

VII. Authority and Signature

VIII. Regulatory Text

I. Executive Summary

The intent of this proposed rule is to remove from the Code of Federal Regulations: OSHA's Safety Color Code for Marking Physical Hazards Standard, 29 CFR 1910.144; paragraph (c)(8) of OSHA's Textiles Standard, 29 CFR 1910.262; paragraph (c)(11) of OSHA's Sawmills Standard, 29 CFR 1910.265; and OSHA's Safety Color Code for Marking Physical Hazards for Shipyard Employment Standard, 29 CFR 1915.90. The hazards these standards are designed to address are sufficiently addressed in other Federal, State, and local requirements.

II. Legal Authority and Preliminary Findings

The purpose of the Occupational Safety and Health Act (29 U.S.C. 651 et seq.) (“the Act” or “the OSH Act”) is “to assure so far as possible every working man and woman in the Nation safe and healthful working conditions and to preserve our human resources” (29 U.S.C. 651(b)). To achieve this goal Congress authorized the Secretary of Labor (“the Secretary”) to promulgate standards to protect workers, including the authority “to set mandatory occupational safety and health standards applicable to businesses affecting interstate commerce” (29 U.S.C. 651(b)(3); see also 29 U.S.C. 654(a)(2) requiring employers to comply with OSHA standards), 29 U.S.C. 655(a) (authorizing summary adoption of existing consensus and established federal standards within two years of the Act's enactment), 29 U.S.C. 655(b) (authorizing promulgation, modification or revocation of standards pursuant to notice and comment)), and 29 U.S.C. 655(b)(7) (authorizing OSHA to include among a standard's requirements labeling, monitoring, medical testing, and other information-transmittal provisions). An occupational safety and health standard is “. . . a standard which requires conditions, or the adoption or use of one or more practices, means, methods, operations, or processes, reasonably necessary or appropriate to provide safe or healthful employment and places of employment” (29 U.S.C. 652(8)).

Before OSHA may promulgate a health or safety standard, it must find that a standard is reasonably necessary or appropriate within the meaning of section 652(8) of the OSH Act. Once OSHA makes a general significant risk finding in support of a standard, the next question is whether a particular requirement is reasonably related to the purpose of the standard as a whole. See Asbestos Info. Ass'n/N. Am. v. Reich, 117 F.3d 891, 894 (5th Cir. 1997); Forging Indus. Ass'n v. Sec'y of Labor, 773 F.2d 1436, 1447 (4th Cir. 1985); United Steelworkers of Am., AFL-CIO-CLC v. Marshall, 647 F.2d 1189, 1237-38 (D.C. Cir. 1980) (“Lead I”).

A standard is technologically feasible if the protective measures it requires already exist, can be brought into existence with available technology, or can be created with technology that is reasonably expected to be developed (see Am. Iron and Steel Inst. v. OSHA, 939 F.2d 975, 980 (D.C. Cir. 1991)). Courts have also interpreted technological feasibility to mean that a typical firm in each affected industry or application group will reasonably be able to implement the requirements of the standard in most operations most of the time (see, e.g., Public Citizen v. OSHA, 557 F.3d 165, 170-71 (3d Cir. 2009) (citing Lead I, 647 F.2d at 1272)).

Because this proposed rule would remove existing OSHA requirements from the CFR, OSHA anticipates employers would have no technological issues complying with the rule. Accordingly, the agency preliminarily finds that the proposed rule is technologically feasible for affected employers.

In determining economic feasibility, OSHA must consider the cost of compliance in an industry rather than on individual employers. In its economic analyses, OSHA “must construct a reasonable estimate of compliance costs and demonstrate a reasonable likelihood that these costs will not threaten the existence or competitive structure of an industry, even if it does portend disaster for some marginal firms” (Am. Iron and Steel Inst., 939 F.2d at 980, quoting Lead I, 647 F.2d at 1272). OSHA has preliminarily determined that this proposed rule is economically feasible because this action is deregulatory and imposes no additional costs. OSHA's economic analysis of the cost savings are presented in Section V.

The Administrative Procedures Act directs agencies to include in each rule adopted “a concise general statement of [the rule's] basis and purpose” (5 U.S.C. 553(c)); cf. 29 U.S.C. 655(e) (requiring the Secretary to publish a “statement of reasons” for any standard promulgated)). This notice satisfies this concise statement requirement.

III. Background

OSHA's Safety Color Code for Marking Physical Hazards Standard, 29 CFR 1910.144, requires that red be the basic color for the identification of danger (e.g., safety cans of certain portable containers, red lights at barricades, danger signs) and stop (e.g., emergency stop bars on hazardous machines and stop buttons on certain electrical switches). The standard also requires that yellow be the basic color for designating caution and for marking physical hazards such as striking against, stumbling, falling, tripping, and caught-in-between.

Paragraph (c)(8) of OSHA's Textiles Standard, 29 CFR 1910.262 (which applies to the design, installation, processes, operation, and maintenance of textile machinery, equipment, and other plant facilities in all plants engaged in the manufacture and processing of textiles, except those processes used exclusively in the manufacture of synthetic fibers), requires that identification of physical hazards be in accordance with the requirements of 29 CFR 1910.144. Similarly, paragraph (c)(11) of OSHA's Sawmills Standard, 29 CFR 1910.265 (which applies to sawmill operations including, but not limited to, log and lumber handling, sawing, trimming, and planing; waste disposal; operation of dry kilns; finishing; shipping; storage; yard and yard equipment; and for power tools and affiliated equipment used in connection with such operations, but excluding the manufacture of plywood, cooperage, and veneer), requires that physical hazard marking be as specified in 29 CFR 1910.144. Finally, OSHA's Safety Color Code for Marking Physical Hazards for Shipyard Employment Standard, 29 CFR 1915.90 (which generally applies to ship repairing, shipbuilding, and shipbreaking employments and related employments), provides that the requirements applicable to shipyard employment under 29 CFR 1915.90 are identical to the requirements set forth at 29 CFR 1910.144.

IV. Explanation of the Proposed Removal from the Code of Federal Regulations: OSHA's Safety Color Code for Marking Physical Hazards Standard, 29 CFR 1910.144; paragraph (c)(8) of OSHA's Textiles Standard, 29 CFR 1910.262; paragraph (c)(11) of OSHA's Sawmills Standard, 29 CFR 1910.265; and OSHA's Safety Color Code for Marking Physical Hazards for Shipyard Employment Standard, 29 CFR 1915.90.

In OSHA's preliminary judgment, OSHA's Safety Color Code for Marking Physical Hazards Standard, 29 CFR 1910.144, paragraph (c)(8) of OSHA's Textiles Standard, 29 CFR 1910.262, paragraph (c)(11) of OSHA's Sawmills Standard, 29 CFR 1910.265, and OSHA's Safety Color Code for Marking Physical Hazards for Shipyard Employment Standard, 29 CFR 1915.90, are designed to address hazards that are sufficiently addressed by other Federal, State, and local requirements. First, it is OSHA's understanding that the hazards these standards are designed to address are also addressed by state and local building and fire codes. Second, the hazards these standards are designed to address are also addressed by OSHA's Specifications for Accident Prevention Signs and Tags Standard, 29 CFR 1910.145, which addresses the design, application, and use of signs or symbols intended to indicate and, insofar as possible, to define specific hazards of a nature such that failure to designate them may lead to accidental injury to workers or the public, or both, or to property damage. Moreover, requiring the identification of hazards by color alone may be ineffective for those individuals with color vision deficiency (i.e., color blindness). Finally, OSHA has cited these standards only about 4 times a year (on average) since 2012. For comparison, OSHA issues approximately 7,000 citations a year for fall protection violations. Therefore, OSHA is proposing to remove these standards from the Code of Federal Regulations.

Questions: OSHA seeks comment regarding whether the hazards these standards are designed to address are sufficiently addressed by other Federal, State, and local requirements; whether these standards are necessary to protect employees from occupational safety and health hazards; and whether removal of these standards from the CFR would compromise worker safety.

V. Preliminary Economic Analysis

Executive Orders 12866 and 13563, the Regulatory Flexibility Act (5 U.S.C. 601-612), and the Unfunded Mandates Reform Act (UMRA) (2 U.S.C. 1532(a)) require that OSHA estimate the benefits, costs, and net benefits of regulations, and analyze the impacts of certain rules that OSHA promulgates. Executive Order 13563 emphasizes the importance of quantifying both costs and benefits, reducing costs, harmonizing rules, and promoting flexibility.

This proposed rule is not a “significant regulatory action” under Executive Order 12866 or UMRA, or a “major rule” under the Congressional Review Act (5 U.S.C. 801 et seq.). Neither the benefits nor the costs of this proposed rule would exceed $100 million in any given year. Furthermore, as discussed below in Review Under the Regulatory Flexibility Act, because the proposed rule would not impose any costs, OSHA certifies that it would not have a significant economic impact on a substantial number of small entities.

OSHA estimates that there are currently 7,452,757 establishments in general industry and shipyards affected by OSHA standards addressing safety color coding (U.S. Census Bureau, 2024) (See OSHA, 2025, for a list of affected industries). The proposed rescission of the standards addressing safety color coding will, among other things, eliminate the time necessary for new establishments and newly hired occupational health and safety specialists at existing establishments to familiarize themselves with the requirements of OSHA's Safety Color Code for Marking Physical Hazards Standard, 29 CFR 1910.144; paragraph (c)(8) of OSHA's Textiles Standard, 29 CFR 1910.262; paragraph (c)(11) of OSHA's Sawmills Standard, 29 CFR 1910.265; and OSHA's Safety Color Code for Marking Physical Hazards for Shipyard Employment Standard, 29 CFR 1915.90. Based on an average annual establishment entry rate of 10 percent (U.S. Census Bureau, 2025), an average hire rate of 43.9 percent (BLS, 2025) and 20 minutes less time spent on regulatory familiarization at a loaded hourly wage rate for an occupational health and safety specialist of $65.41, OSHA estimates that this deregulatory action would mean about $87.6 million in cost savings annually.

OSHA also estimated the impacts under an alternative scenario where only new entrants into the industry would be affected by the rescission of the safety color warning standards in general industry and shipyards. This scenario assumes that for non-entrant (i.e., existing) establishments within an industry, the familiarization time saved for newly hired occupational health and safety specialists is negligible due to knowledge of the requirements in the safety color warning standards retained institutionally within the business entity by team leaders and other senior production staff. For this scenario, costs savings that result from rescinding the standards in general industry and shipyards addressing safety color warnings would be $16.2 million.

A third impacts scenario, one that is likely closer to the real-world environment for retention and communication of safety and health information in most workplaces, would be the midpoint of the two extreme cases described above. Under this mid-range scenario, approximately half of affected establishments would retain staff whose complete knowledge of the rescinded standards would substitute for the familiarization time needed by the newly hired health and safety specialists. Viewed alternatively, under this mid-range scenario, all affected establishments retain veteran staff who can briefly inform the new safety and health specialist of the status of standards such as those found in the safety color warnings in less time (roughly ten minutes) than would be necessary in the absence of institutional knowledge (twenty minutes). OSHA estimates that this would result in cost savings of $51.9 million annually.

OSHA's estimate of cost savings may underestimate total cost savings if the elimination of the labor burden for regulatory familiarization extends to the avoidance of unnecessary safety training of employees.

OSHA requests public comment on this preliminary analysis of the cost savings for employers affected by the rescission of the standards addressing safety color coding. Specifically, OSHA seeks comments and data on the following questions:

1. How much do employers expect to save as a consequence of the rescission of requirements in the current standard?

2. How much familiarization time would employers who are new entrants to the market expect to save based on the revisions?

3. Are there any benefits for worker protection that can be anticipated from this proposed change?

4. Are there any costs for employers that would result from this change that OSHA has not considered?

Sources

Bureau of Labor Statistics (BLS). (BLS, 2025). Occupational Employment and Wage Statistics—May 2024 (Released April 2, 2025). Available at https://www.bls.gov/oes/tables.htm (Accessed April 11, 2025)

Occupational Safety and Health Administration. (OSHA, 2025). Color Coding Deregulatory Model: Excel workbook, supporting profile and cost data. June 6, 2025.

U.S. Census Bureau. (2024). County Business Patterns 2022 (Released June 27, 2024). Available at https://www.census.gov/programs-surveys/cbp.html (Accessed July 17, 2024)

U.S. Census Bureau. (2025). Business Dynamics Statistics. Available at https://bds.explorer.ces.census.gov/?xaxis-id=year&xaxis-selected=2018,2019,2020,2021,2022&group-id=none&measure-id=estabs_entry_rate&chart-type=bar (Accessed June 6, 2025)

Review Under the Regulatory Flexibility Act

The Regulatory Flexibility Act (5 U.S.C. 601 et seq.) requires preparation of an initial regulatory flexibility analysis (IRFA) and a final regulatory flexibility analysis (FRFA) for any rule that by law must be proposed for public comment, unless the agency certifies that the rule, if promulgated, will not have a significant economic impact on a substantial number of small entities.

OSHA reviewed this proposed rescission under the provisions of the Regulatory Flexibility Act. This rule eliminates a burdensome regulation. Therefore, OSHA preliminarily concludes that the rescission would not have a “significant economic impact on a substantial number of small entities,” and that the preparation of an IRFA is not warranted. OSHA will transmit this certification and supporting statement of factual basis to the Chief Counsel for Advocacy of the Small Business Administration for review under 5 U.S.C. 605(b). OSHA requests comment on this regulatory flexibility certification.

VI. Additional Requirements

A. Requirements for States With OSHA-Approved State Plans

Under section 18 of the OSH Act (29 U.S.C. 651 et seq.), Congress expressly provides that States may adopt, with Federal approval, a plan for the development and enforcement of occupational safety and health standards that are “at least as effective” as the Federal standards in providing safe and healthful employment and places of employment (29 U.S.C. 667). OSHA refers to these OSHA-approved, State-administered occupational safety and health programs as “State Plans.” ¹

¹ Of the 29 States and U.S. territories with OSHA-approved State Plans, 22 cover public and private-sector employees: Alaska, Arizona, California, Hawaii, Indiana, Iowa, Kentucky, Maryland, Michigan, Minnesota, Nevada, New Mexico, North Carolina, Oregon, Puerto Rico, South Carolina, Tennessee, Utah, Vermont, Virginia, Washington, and Wyoming. The remaining six States and one U.S. territory cover only State and local government employees: Connecticut, Illinois, Maine, Massachusetts, New Jersey, New York, and the Virgin Islands.

When Federal OSHA promulgates a new standard or a more stringent amendment to an existing standard, State Plans must either amend their standards to be identical to, or “at least as effective as,” the new Federal standard or amendment, or show that an existing State Plan standard covering this issue is “at least as effective” as the new Federal standard or amendment (29 CFR 1953.5(a)). However, when OSHA promulgates a new standard or amendment that does not impose additional or more stringent requirements than an existing standard, State Plans do not have to amend their standards, although they may opt to do so. OSHA has preliminarily determined this proposed rule does not impose additional or more stringent requirements than the existing standard, and therefore State Plans are not required to amend their standards. OSHA seeks comment on this assessment of its proposal.

B. OMB Review Under the Paperwork Reduction Act of 1995

The Paperwork Reduction Act of 1995 (PRA) (44 U.S.C. 3501 et seq.) defines “collection of information” to mean “the obtaining, causing to be obtained, soliciting, or requiring the disclosure to third parties or the public, of facts or opinions by or for an agency, regardless of form or format” (44 U.S.C. 3502(3)(A)). Under the PRA, a Federal agency cannot conduct or sponsor a collection of information unless it is approved by OMB under the PRA and the agency displays a currently valid OMB control number (44 U.S.C. 3507). Also, notwithstanding any other provisions of law, no person shall be subject to penalty for failing to comply with a collection of information if the collection of information does not display a currently valid OMB control number (44 U.S.C. 3512(a)(1)). The process for OMB approval is found in 5 CFR part 1320. This proposed rule would impose no new information collection requirements and does not affect the currently approved information collections in General Working Conditions in Shipyard Employment (29 CFR 1915 Subpt. F). Accordingly, OMB approval is not required for this proposed rule.

C. Review Under Executive Order 12866

E.O. 12866, “Regulatory Planning and Review,” 58 FR 51735 (Oct. 4, 1993), requires agencies, to the extent permitted by law, to (1) propose or adopt a regulation only upon a reasoned determination that its benefits justify its costs (recognizing that some benefits and costs are difficult to quantify); (2) tailor regulations to impose the least burden on society, consistent with obtaining regulatory objectives, taking into account, among other things, and to the extent practicable, the costs of cumulative regulations; (3) select, in choosing among alternative regulatory approaches, those approaches that maximize net benefits; (4) to the extent feasible, specify performance objectives, rather than specifying the behavior or manner of compliance that regulated entities must adopt; and (5) identify and assess available alternatives to direct regulation, including providing economic incentives to encourage the desired behavior, such as user fees or marketable permits, or providing information upon which choices can be made by the public.

Section 6(a) of E.O. 12866 also requires agencies to submit “significant regulatory actions” to the Office of Information and Regulatory Affairs (OIRA) for review. OIRA has determined that this proposed rule would not constitute a “significant regulatory action” under section 3(f) of E.O. 12866. Accordingly, this proposed rule was not submitted to OIRA for review under E.O. 12866.

D. Environmental Impacts/National Environmental Policy Act (NEPA)

OSHA has reviewed this proposed rule according to the National Environmental Policy Act of 1969 (NEPA) (42 U.S.C. 4321 et seq.), as amended by the Fiscal Responsibility Act of 2023 (Pub. L. 118-5, 321, 137 Stat. 10), and the Department of Labor's NEPA procedures (29 CFR part 11). OSHA has preliminarily determined that this proposed rule will have no impact on the quality of the human environment.

E. Other Statutory and Executive Order Considerations

OSHA has considered its obligations under the Unfunded Mandates Reform Act (UMRA) (2 U.S.C. 1501 et seq.) and the Executive Orders on Consultation and Coordination With Indian Tribal Governments (E.O. 13175, 65 FR 67249 (Nov. 6, 2000)), Federalism (E.O. 13132, 64 FR 43255 (Aug. 10, 1999)), and Protection of Children From Environmental Health Risks and Safety Risks (E.O. 13045, 62 FR 19885 (Apr. 23, 1997)). Given that this is a proposed deregulatory action that involves the removal of requirements, that OSHA does not foresee economic impacts of $100 million or more, and that the action does not constitute a policy that has federalism or tribal implications, OSHA has determined that no further agency action or analysis is required to comply with these statutes and executive orders. Furthermore, OSHA has determined that this proposed rule is consistent with the policies and directives outlined in E.O. 14192, “Unleashing Prosperity Through Deregulation” and is an Executive Order 14192 deregulatory action.

List of Subjects

29 CFR Part 1910

Health, Occupational safety and health, Safety, Signs and symbols.

29 CFR Part 1915

Health, Longshore and harbor workers, Occupational safety and health, Vessels.

VII. Authority and Signature

This document was prepared under the direction of Amanda Laihow, Acting Assistant Secretary of Labor for Occupational Safety and Health. It is issued under the authority of sections 4, 6, and 8 of the Occupational Safety and Health Act of 1970 (29 U.S.C. 653, 655, and 657); section 41 of the Longshore and Harbor Worker's Compensation Act (33 U.S.C. 941); 5 U.S.C. 553; Secretary of Labor's Order No. 8-2020 (85 FR 58383); and 29 CFR part 1911.

Dated: June 20, 2025.
Amanda Laihow,
Acting Assistant Secretary of Labor for Occupational Safety and Health.

VIII. Regulatory Text

Proposed Amendments

For the reasons set forth in the preamble, OSHA is amending 29 CFR parts 1910 and 1915 as follows:

PART 1910—OCCUPATIONAL SAFETY AND HEALTH STANDARDS

Subpart J—General Environmental Controls

1. The authority for 29 CFR 1910 subpart J is revised to read as follows:

Authority: 29 U.S.C. 653, 655, 657; Secretary of Labor's Order No. 12-71 (36 FR 8754), 8-76 (41 FR 25059), 9-83 (48 FR 35736), 1-90 (55 FR 9033), 6-96 (62 FR 111), 3-2000 (65 FR 50017), 5-2007 (72 FR 31159), 4-2010 (75 FR 55355), 1-2012 (77 FR 3912), or 8-2020 (85 FR 58393), as applicable.

Sections 1910.141, 1910.142, 1910.145, 1910.146, and 1910.147 also issued under 29 CFR part 1911.

§ 1910.144 [Reserved]

2. Remove and reserve § 1910.144.

* * * * *

Subpart R—Special Industries

3. The authority for 29 CFR 1910 subpart R is revised to read as follows:

Authority: 29 U.S.C. 653, 655, 657; Secretary of Labor's Order No. 12-71 (36 FR 8754), 8-76 (41 FR 25059), 9-83 (48 FR 35736), 1-90 (55 FR 9033), 6-96 (62 FR 111), 5-2007 (72 FR 31159), 4-2010 (75 FR 55355), 1-2012 (77 FR 3912), or 8-2020 (85 FR 58393), as applicable; and 29 CFR part 1911.

§ 1910.262(c)(8) [Reserved]

4. Remove and reserve paragraph (c)(8) of § 1910.262.

§ 1910.265(c)(11) [Reserved]

5. Remove and reserve paragraph (c)(11) of § 1910.265.

* * * * *

PART 1915—OCCUPATIONAL SAFETY AND HEALTH STANDARDS FOR SHIPYARD EMPLOYMENT

6. The authority for 29 CFR part 1915 continues to read as follows:

Authority: 33 U.S.C. 941; 29 U.S.C. 653, 655, 657; Secretary of Labor's Order No. 12-71 (36 FR 8754), 8-76 (41 FR 25059), 9-83 (48 FR 35736), 1-90 (55 FR 9033), 6-96 (62 FR 111), 3-2000 (65 FR 50017), 5-2002 (67 FR 65008), 5-2007 (72 FR 31160), 4-2010 (75 FR 55355), 1-2012 (77 FR 3912), or 8-2020 (85 FR 58393); 29 CFR part 1911; and 5 U.S.C. 553, as applicable.

Subpart F—General Working Conditions

§ 1915.90 [Reserved]

7. Remove and reserve § 1915.90.

* * * * *

[FR Doc. 2025-11626 Filed 6-30-25; 8:45 am]

BILLING CODE 4510-26-P